DEPARTMENT OF TRANSPORTATION

National Highway Traffic Safety Administration

[Docket No. NHTSA-2016-0087]

Federal Motor Carrier Safety Administration

[Docket No. FMCSA-2014-0083]

Notice of Availability of a Draft Environmental Assessment for Rulemaking To Require the Installation and Maintenance of Speed Limiting Devices in Heavy Vehicles

AGENCY: National Highway Traffic Safety Administration (NHTSA) and Federal Motor Carrier Safety Administration (FMCSA), Department of Transportation (DOT).

ACTION: Notice of availability; request for comments.

SUMMARY: NHTSA and FMCSA announce the availability of a Draft Environmental Assessment (EA) to evaluate the potential environmental impacts of proposed regulations requiring the installation of vehicle speed limiting devices in new heavy vehicles and maintenance of a maximum speed setting by motor carriers operating affected vehicles. The Draft EA was prepared in compliance with the National Environmental Policy Act of 1969 (NEPA), the Council on Environmental Quality's (CEQ) regulations implementing NEPA, U.S. DOT Order 5610.1C, NHTSA's NEPA implementing regulations, and FMCSA's NEPA Order 5610.1. Interested persons are invited to comment on the Draft EA.

DATES: You should submit your comments early enough to ensure that the docket receives them not later than November 7, 2016.

ADDRESSES: You may submit comments on the Draft EA, bearing the Federal Docket Management System Docket IDs [NHTSA-2016-0087] or [FMCSA-2014-0083] using any of the following methods:

• Federal eRulemaking Portal: Go to http://www.regulations.gov. Follow the online instructions for submitting comments.

• Mail: Docket Management Facility: U.S. Department of Transportation, 1200 New Jersey Avenue SE., West Building, Ground Floor, Room W12-140, Washington, DC 20590-0001.

• Hand Delivery or Courier: 1200 New Jersey Avenue SE., West Building Ground Floor, Room W12-140, between 9 a.m. and 5 p.m. ET, Monday through Friday, except Federal holidays.

• Fax: (202) 493-2251.

Each submission must include the Agencies' names and the docket numbers for this notice. Note that all comments received will be posted without change to http://www.regulations.gov, including any personal information provided. Please see the “Privacy Act” heading below.

You may call the Docket at 202-366-9324.

Docket: For access to the docket to read background documents or comments received, go to www.regulations.gov or the street address listed above.

Privacy Act: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy. Anyone is able to search the electronic form of all comments received into any of our dockets by the name of the individual submitting the comment (or signing the comment, if submitted on behalf of an association, business, labor union, etc.).

FOR FURTHER INFORMATION CONTACT:

NHTSA: Mr. Markus Price, Chief, Visibility and Injury Prevention Division, National Highway Traffic Safety Administration, 1200 New Jersey Avenue SE., Washington, DC 20590. Telephone: 202-366-1810.

FMCSA: Ms. Andrea Pahlevanpour, Environmental Program Analyst, Regulatory Evaluation Division, Federal Motor Carrier Safety Administration, 1200 New Jersey Avenue SE., Washington, DC 20590. Telephone: 202-366-5370.

SUPPLEMENTARY INFORMATION:

Background

Pursuant to NEPA, NHTSA and FMCSA have prepared a Draft EA analyzing the potential environmental impacts of the agencies' proposed rulemaking regarding the installation and maintenance of speed limiting devices in heavy vehicles. See 81 FR 61942 (Sep. 7, 2016). Specifically, the proposal requires all newly manufactured U.S. trucks, buses, and multipurpose passenger vehicles with a gross vehicle weight rating more than 11,793.4 kilograms (26,000 pounds) to be equipped with a speed limiting device set to a designated speed. Further, under the proposal, motor carriers operating commercial vehicles in interstate commerce would be responsible for maintaining the speed limiting devices at or below the designated speed for the service life of the vehicle. Although the agencies do not propose the designated speed for the speed limiting devices to be set, the agencies considered the benefits and costs of four alternatives in the proposal: 60 mph, 65 mph, 68 mph maximum speeds and the No Action Alternative of not requiring the installation of speed limiters in heavy vehicles. At this time, the agencies have not selected a preferred alternative and seek public comment on the specified maximum speed level to require in the final rule.

Environment

NEPA (42 U.S.C. 4321-4347) requires Federal agencies to integrate environmental values into their decision-making processes by requiring Federal agencies to consider the potential environmental impacts of their proposed actions. In accordance with NEPA, CEQ's regulations implementing NEPA (40 CFR parts 1500-1508), U.S. DOT Order 5610.1C, NHTSA's NEPA implementing regulations (49 CFR part 520), and FMCSA's NEPA Order 5610.1 (69 FR 9680 [Mar. 1, 2004]), NHTSA and FMCSA have prepared a Draft EA to outline the purpose and need for the proposed rulemaking, a reasonable range of alternative actions the agencies could adopt through rulemaking (in particular, the maximum specified speeds under consideration), and the projected environmental impacts of these alternatives.

NHTSA and FMCSA anticipate that the action alternatives will have negligible or no impact on the following resource and impact categories: (1) Topography, geology, and soils; (2) water resources (including wetlands and floodplains); (3) biological resources; (4) resources protected under the Endangered Species Act; (5) historical and archeological resources; (6) farmland resources; (7) environmental justice; and (8) resources protected under 49 U.S.C. 303 (“Section 4(f)” properties). The impact areas that may be affected and were evaluated in the Draft EA include air quality and greenhouse gas emissions; socioeconomics; public health and safety; solid waste; hazardous materials; and fuel savings.

NHTSA and FMCSA invite interested parties to comment on the Draft EA by following the instructions under ADDRESSES above. The Draft EA is available on both agencies' Web sites at http://www.nhtsa.gov/ and http://www.fmcsa.dot.gov/ or on the public docket at http://www.regulations.gov (Docket No. NHTSA-2016-0087-0003 and Docket No. FMCSA-2014-0083-0002).

Subject to public notice and comment, NHTSA and FMCSA anticipate issuing a Finding of No Significant Impact (FONSI) related to this action.

Issued pursuant to authority delegated in 49 CFR 1.81, 1.95, and 501.8 on: September 22, 2016.
Raymond R. Posten,
Associate Administrator for Rulemaking, National Highway Traffic Safety Administration.
Issued pursuant to authority delegated in 49 CFR 1.81 and 1.87 on: September 22, 2016.
Larry W. Minor,
Associate Administrator for Policy, Federal Motor Carrier Safety Administration.

[FR Doc. 2016-23486 Filed 9-28-16; 8:45 am]

BILLING CODE 4910-59-P